DEPARTMENT OF THE INTERIOR

Minerals Management Service (MMS)

Outer Continental Shelf (OCS), Eastern Gulf of Mexico (GOM), Oil and Gas Lease Sales for Years 2002-2007

AGENCY: Minerals Management Service, Interior.

ACTION: Call for Information and Nominations/Notice of Intent (Call/NOI) to Prepare an Environmental Impact Statement (EIS).

SUMMARY: The purpose of the Call/NOI is to gather information and nominations on oil and gas leasing, exploration, and development and production for the two tentatively scheduled OCS lease sales in a portion of the Eastern GOM Planning Area south of Alabama. This information is important for ensuring that all interests and concerns are communicated to the Department of the Interior to use in making future decisions in the leasing processes for these two proposed sales.

DATES: Nominations and comments must be received no later than March 11, 2002.

FOR FURTHER INFORMATION CONTACT: For information on the Call/NOI, please contact Ms. Jane Burrell Johnson, Minerals Management Service, Gulf of Mexico OCS Region, 1201 Elmwood Park Boulevard, New Orleans, Louisiana 70123-2394, telephone (504) 736-2811. For information on the Notice of Intent to Prepare an EIS, please contact Mr. Joseph Christopher,Minerals Management Service, Gulf of Mexico OCS Region, 1201 Elmwood Park Boulevard, New Orleans, Louisiana 70123-2394, telephone (504) 736-2788.

SUPPLEMENTARY INFORMATION: MMS proposes to adopt a multisale process for the Eastern GOM sales in the 2002-2007 OCS Oil and Gas Leasing Program. This multisale process will cover both proposed sales in the Eastern Planning Area, Eastern GOM Sale 189 and Eastern GOM Sale 197. The Call/NOI, the initial step in the process, will cover both of these sales. There will also be complete National Environmental Policy Act (NEPA), OCS Lands Act, and Coastal Zone Management Act coverage for each sale. For the 2002-2007 OCS Leasing Program, we propose to prepare a two-sale EIS for Eastern GOM Sales 189 and 197. We also propose to prepare a subsequent Environmental Assessment (EA) for Eastern GOM Sale 197, focusing primarily on new issues, to determine whether we should prepare either a Finding of No New Significant Impact or a supplemental EIS for that sale.

This is the first multisale process for the Eastern GOM. It is not, however, the very first multisale process. Beginning in 1996, MMS adopted multisale processes for sales in the Central and Western GOM. The multisale processes for those planning areas incorporated prelease planning and analysis steps for all sales proposed in the approved 5-Year OCS Oil and Gas Leasing Program. MMS is also using a multisale process in the Beaufort Sea. MMS proposes to adopt a similar process for the Eastern GOM sales in the 2002-2007 OCS Oil and Gas Leasing Program. A single multisale process will cover both proposed sales in this planning area through the final EIS stage. However, we will prepare proposed and final Notices of Sale and Consistency Determinations for each sale.

Call for Information and Nominations

1. Authority

This Call is published pursuant to the OCS Lands Act as amended (43 U.S.C. 1331-1356, (1994)), and the regulations issued thereunder (30 CFR part 256).

2. Purpose of Call

The purpose of the Call is to gather information for the following tentatively scheduled OCS Lease Sales in a portion of the Eastern GOM Planning Area south of Alabama:

Sale, OCS planning area | Tentative sale date
Sale 189, Eastern GOM | December 2003.
Sale 197, Eastern GOM | March 2005.

Information and nominations on oil and gas leasing, exploration, and development and production within the Eastern GOM are sought from all interested parties. This early planning and consultation step is important for ensuring that all interests and concerns are communicated to the Department of the Interior for future decisions in the leasing process pursuant to the OCS Lands Act, and regulations at 30 CFR part 256.

Responses are requested relative to proposed sales in the Eastern GOM OCS Planning Area. Since each sale proposal and projected activities are very similar, MMS is proposing to prepare a single EIS for the two Eastern Planning Area lease sales scheduled for 2003 and 2005 in the proposed Outer Continental Shelf Oil and Gas Leasing Program: 2002-2007. There will be complete NEPA coverage for each sale—one EIS on both sales and a subsequent EA for the second sale, focusing primarily on new issues. We will prepare a Consistency Determination and proposed and final Notices of Sale for each proposed sale in accordance with Coastal Zone Management Act and OCS Lands Act requirements.

This Call does not indicate a preliminary decision to lease in the area described below. Final delineation for possible leasing will be made at a later date and in compliance with applicable laws including all requirements of the NEPA and OCS Lands Act. Established Departmental procedures will be employed.

3. Description of Area

The general area of this Call covers unleased whole blocks located within the portion of the Eastern GOM Planning Area that is west of 87 degrees 30 minutes West Longitude and which range from 100 to 196 miles south of Alabama, and from about 70 to 148 miles offshore Louisiana. This area is the same area that was offered for lease in Eastern GOM Sale 181 held in December 2001. The area available for nominations and comments at this time consists of approximately 1.5 million acres, of which approximately 0.8 million acres are currently available for bid in Sales 189 and/or 197.

A standard Call for Information Map depicting the proposed Eastern GOM sale area on a block-by-block basis is available without charge from: Minerals Management Service, Public Information Unit (MS 5034), 1201 Elmwood Park Boulevard, New Orleans, Louisiana 70123-2394, Telephone: 1-800-200-GULF.

4. Instructions on Call

The standard Call for Information Map and indications of interest and comments must be submitted to: Ms. Jane Burrell Johnson, Minerals Management Service, Gulf of Mexico OCS Region, 1201 Elmwood Park Boulevard, New Orleans, Louisiana 70123-2394. Envelopes should be labeled “Nominations for Proposed 2002-2007 Lease Sales in the Eastern Gulf of Mexico” or “Comments on the Call for Information and Nominations for Proposed 2002-2007 Lease Sales in the Eastern Gulf of Mexico.”

The standard Call for Information Map delineates the Call area, all of which has been identified by MMS as having potential for the discovery of accumulations of oil and gas. Respondents are requested to indicate interest in and comment on any or all of the Federal acreage within the boundaries of the Call area that they wish to have included in each of the proposed sales in the Eastern GOM.

Although individual indications of interest are considered to be privileged and proprietary information, the names of persons or entities indicating interest or submitting comments will be of public record. Those indicating such interest are required to do so on the standard Call for Information Map by outlining the areas of interest along block lines.

Respondents should rank areas in which they have expressed interest according to priority of their interest (e.g., priority 1 [high], 2 [medium], or 3 [low]). Respondents are encouraged to be specific in indicating blocks by priority, as blanket nominations on large areas are not useful in the analysis of industry interest. Areas where interest has been indicated but on which respondents have not indicated priorities will be considered priority 3 [low].

Respondents may also submit a detailed list of blocks nominated (by Official Protraction Diagram designations) to ensure correct interpretation of their nominations. Official Protraction Diagrams can be purchased from the Public Information Unit referred to under Item 3, “Description of Area.”

Comments are sought from all interested parties about particular geological, environmental, biological, archaeological and socioeconomic conditions or conflicts, or other information that might bear upon the potential leasing and development of particular areas. Comments are also sought on possible conflicts between future OCS oil and gas activities that may result from the proposed sales and State Coastal Management Programs. If possible, these comments should identify specific Coastal Management Plans policies of concern, the nature of the conflict foreseen, and steps that MMS could take to avoid or mitigate the potential conflict. Comments may either be in terms of broad areas or restricted to particular blocks of concern. Those submitting comments are requested to list block numbers or outline the subject area on the standard Call for Information Map.

5. Use of Information From Call

Information submitted in response to this Call will be used for several purposes. First, responses will be used to identify the areas of potential for oil and gas development. Second, comments on possible environmental effects and potential use conflicts will be used in the analysis of environmental conditions in and near the Call area. This information will be used to make a preliminary determination of the potential advantages and disadvantages of oil and gas exploration and development to the region and the Nation. A third purpose for this Call is to use the comments collected in the scoping process for the EIS and to develop proposed actions and alternatives. Fourth, comments may be used in developing lease terms and conditions to ensure safe offshore operations. And, fifth, comments may be used to assess potential conflicts between offshore gas and oil activities and a State's Coastal Management Plan.

6. Existing Information

MMS routinely assesses the status of information acquisition efforts and the quality of the information base for potential decisions on tentatively scheduled lease sales. As a result of this continually ongoing assessment, it has been determined that the status of the existing data available for planning, analysis, and decisionmaking is adequate and extensive.

An extensive environmental studies program has been underway in the GOM since 1973. The emphasis, including continuing studies, has been on environmental characterization of biologically sensitive habitats, physical oceanography, ocean-circulation modeling, and ecological effects of oil and gas activities. A complete listing of available study reports, and information for ordering copies, can be obtained from the Public Information Unit referenced under Item 3, “Description of Area.” The reports may also be ordered, for a fee, from the U.S. Department of Commerce, National Technical Information Service, 5285 Port Royal Road, Springfield, Virginia 22161, or telephone (703) 487-4650. In addition, a program status report for continuing studies in this area and a list of final and interim study reports for 2001-2002 can be obtained from the Chief, Environmental Sciences Section (MS 5430), Gulf of Mexico OCS Region (see address under Item 3, “Description of Area”), or telephone (504) 736-2752. Summary Reports and Indices and technical and geological reports are available for review at Minerals Management Service, Gulf of Mexico OCS Region. Copies of the Gulf of Mexico OCS Regional Summary Reports may be obtained from the Technical Services Branch, Minerals Management Service, 381 Elden Street, MS 4063, Herndon, Virginia 20170, phone: (703) 787-1080.

7. Tentative Schedule

The following is a list of tentative milestone dates applicable to sales covered by this Call:

Multisale Process Milestones for Proposed 2002-2007 Eastern GOM Sales 189 and 197
Call/NOI(Sales 189 and 197) | January 2002.
Comments Received on Call/NOI(Sales 189 and 197) | March 2002.
Area Identification Decision(Sales 189 and 197) | May 2002.
Draft EIS Published(Sales 189 and 197) | November 2002.
Public Hearings on Draft EIS(Sales 189 and 197) | January 2003.
Final EIS (Sales 189 and 197) | June 2003.

Sale-Specific Process Milestones for Proposed 2002-2007 Eastern GOM Sales 189 and 197
Request for Information to Begin Sale 197 Sale-Specific Process | March 2004.
Sale 197 Environmental Review (EA/Finding of No New Significant Impact/Supplemental EIS (EA/FONSI/SEIS)) Published | October 2004.
Consistency Determination | 5 Months Before Each Sale.
Proposed Notice of Sale | 4 Months Before Each Sale.
Final Notice of Sale | 1 Month Before Each Sale.
Tentative Sale Dates | December 2003 (Sale 189) and March 2005 (Sale 197).

Notice of Intent To Prepare an EIS

1. Authority

The NOI is published pursuant to the regulations (40 CFR 1501.7) implementing the provisions of the NEPA of 1969 as amended (42 U.S.C. 4321 et seq. (1988)).

2. Purpose of the Notice of Intent

Pursuant to the regulations implementing the procedural provisions of the NEPA, MMS is announcing its intent to prepare an EIS on the two proposed Eastern GOM oil and gas lease sales, tentatively scheduled for 2003 and 2005. The NOI also serves to announce the scoping process for this EIS. Throughout the scoping process, Federal, State, and local government agencies, and other interested parties have the opportunity to aid MMS in determining the significant issues and alternatives to be analyzed in the EIS.

The EIS analysis will focus on the potential environmental effects of oil and natural gas leasing, exploration, development, and production in the areas identified through the Area Identification procedure. Alternatives that may be considered for each sale are to delay the sale, cancel the sale, or modify the sale.

3. Supplemental Information

Federal regulations allow for multiple proposals to be analyzed in one EIS (40 CFR 1502.4). Since each sale proposal and projected activities are very similar, MMS is proposing to prepare a single EIS (multisale EIS) for the two Eastern Planning Area lease sales scheduled for 2003 and 2005 in the draft proposed Outer Continental Shelf Oil and Gas Leasing Program: 2002-2007. The multisale approach is intended to focus the NEPA/EIS process on differences between the proposed sales and on new issues and information. The multisale EIS will eliminate the repetitive issuance of complete draft and final EISs for each proposed lease sale. The resource estimates and scenario information for the EIS analyses will be presented as a range that would encompass the resources and activities estimated for either of the proposed lease sales. At the completion of this EIS process, a decision will be made only for proposed Sale 189, scheduled to be held in 2003. Subsequent to this first sale, a NEPA review will be conducted for proposed lease Sale 197 scheduled for 2005. Formal consultation with other Federal agencies, the affected States, and the public will be carried out to assist in the determination of whether or not the information and analyses in the original multisale EIS are still valid. These consultations and the NEPA review will be completed before a decision is made on proposed Sale 197.

4. For Further Information Contact

Mr. Joseph Christopher, Minerals Management Service, Gulf of Mexico OCS Region, 1201 Elmwood Park Boulevard, New Orleans, Louisiana 70123-2394, telephone (504) 736-2774.

5. Comments

Federal, State, and local government agencies, and other interested parties are requested to send their written comments on the scope of the EIS, significant issues that should be addressed, and alternatives that should be considered to the Regional Supervisor, Leasing and Environment (MS 5410), Gulf of Mexico OCS Region, at the address under Item 4, For Further Information Contact. Comments should be enclosed in an envelope labeled “Comments on the Eastern Multisale EIS.” Comments should be submitted no later than March 25, 2002. Scoping meetings will be held in appropriate locations to obtain additional comments and information regarding the scope of the EIS. Information on the dates and locations of the scoping meetings will be made available to interested parties via mailouts and advertisements in appropriate newspapers.

Dated: January 25, 2002.
Lucy Querques Denett,
Acting Director.

[FR Doc. 02-3010 Filed 2-6-02; 8:45 am]

BILLING CODE 4310-MR-P